DEPARTMENT OF TRANSPORTATION

Federal Aviation Administration

14 CFR Part 39

[Docket No. FAA-2008-0222; Directorate Identifier 2007-NM-300-AD]

RIN 2120-AA64

Airworthiness Directives; Airbus Model A300 and A300-600 Series Airplanes

AGENCY: Federal Aviation Administration (FAA), DOT.

ACTION: Notice of proposed rulemaking (NPRM).

SUMMARY: We propose to adopt a new airworthiness directive (AD) for the products listed above. This proposed AD results from mandatory continuing airworthiness information (MCAI) originated by an aviation authority of another country to identify and correct an unsafe condition on an aviation product. The MCAI describes the unsafe condition as:

Due to several crack findings in the area of wing centre box lower aft corner at FR47, this area of structure has been subjected to accomplishment of several inspection Service Bulletins rendered mandatory in accordance with Airworthiness Limitation Items requirement for A300 aircraft and Airworthiness Directive (AD) F-2004-159 for A300-600 aircraft [which corresponds to FAA AD 2005-23-08]. This AD is published * * * in order to control or correct the development of cracks, which could affect the structural integrity of the aircraft.

The proposed AD would require actions that are intended to address the unsafe condition described in the MCAI.

DATES: We must receive comments on this proposed AD by March 31, 2008.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Tom Stafford, Aerospace Engineer, International Branch, ANM-116, Transport Airplane Directorate, FAA, 1601 Lind Avenue, SW., Renton, Washington 98057-3356; telephone (425) 227-1622; fax (425) 227-1149.

SUPPLEMENTARY INFORMATION:

Comments Invited

We invite you to send any written relevant data, views, or arguments about this proposed AD. Send your comments to an address listed under the ADDRESSES section. Include “Docket No. FAA-2008-0222; Directorate Identifier 2007-NM-300-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2007-0150, dated May 22, 2007 [corrected May 23, 2007] (referred to after this as “the MCAI”), to correct an unsafe condition for the specified products. The MCAI states:

Due to several crack findings in the area of wing centre box lower aft corner at FR47, this area of structure has been subjected to accomplishment of several inspection Service Bulletins [SBs] rendered mandatory in accordance with Airworthiness Limitation Items requirement for A300 aircraft and Airworthiness Directive (AD) F-2004-159 for A300-600 aircraft [which corresponds to FAA AD 2005-23-08]. This AD is published in order to render mandatory inspection subsequent to accomplishment of repair SB A300-53-0282 or A300[-53]-0291 or A300-57-6069 in the affected area. The SB A300-53-0381, A300-53-0383 and A300-57-6102 define the various configurations for the mandatory [repetitive] inspections to be conducted in order to control or correct the development of cracks [in the center wing box at FR47], which could affect the structural integrity of the aircraft.

The inspections include x-ray, high frequency eddy current, visual, and ultrasonic inspections. Corrective actions include contacting Airbus if any cracking is found, repairing if any cracking is found, and doing other specified actions. The other specified actions include contacting Airbus for oversizing fastener holes, oversizing fastener holes, installing new fasteners, and installing new plugs.

The initial compliance times range from 10,800 flight hours or 23,300 flight cycles, whichever occurs first, to 30,200 flight hours or 33,500 flight cycles, whichever occurs first, after doing the repair, depending on the airplane configuration and inspection area. The repetitive intervals range from 500 flight cycles or 1,100 flight cycles, whichever occurs first, to 45,500 flight cycles or 61,500 flight hours, whichever occurs first, depending on the airplane configuration and inspection area. You may obtain further information by examining the MCAI in the AD docket.

Relevant Service Information

Airbus has issued Service Bulletins A300-53-0381, dated January 15, 2007; A300-53-0383, dated January 11, 2007; and A300-57-6102, dated January 12, 2007. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect about 107 products of U.S. registry. We also estimate that it would take about 22 work-hours per product to comply with the basic requirements of this proposed AD. The average labor rate is $80 per work-hour. Based on these figures, we estimate the cost of the proposed AD on U.S. operators to be $188,320, or $1,760 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Airbus: Docket No. FAA-2008-0222; Directorate Identifier 2007-NM-300-AD.

Comments Due Date

(a) We must receive comments by March 31, 2008.

Affected ADs

(b) None.

Applicability

(c) This AD applies to Airbus Model A300 and A300-600 series airplanes, certificated in any category, as listed in paragraphs (c)(1), (c)(2), and (c)(3) of this AD.

(1) Airbus Model A300 B2-1C, B2-203 and B2K-3C models, all serial numbers that have been repaired in accordance with Airbus Service Bulletin A300-53-0282.

(2) Airbus Model A300 B4-103, B4-203, and B4-2C, all serial numbers that have been repaired in accordance with Airbus Service Bulletin A300-53-0291.

(3) Airbus Model A300 B4-601, B4-603, B4-605R, B4-620, B4-622, B4-622R, C4-605R Variant F, and F4-605R models, all serial numbers that have been repaired in accordance with Airbus Service Bulletin A300-57-6069.

Subject

(d) Air Transport Association (ATA) of America Codes 53 and 57: Fuselage and Wings.

Reason

(e) The mandatory continuing airworthiness information (MCAI) states:

Due to several crack findings in the area of wing centre box lower aft corner at FR47, this area of structure has been subjected to accomplishment of several inspection Service Bulletins [SBs] rendered mandatory in accordance with Airworthiness Limitation Items requirement for A300 aircraft and Airworthiness Directive (AD) F-2004-159 for A300-600 aircraft [which corresponds to FAA AD 2005-23-08]. This AD is published in order to render mandatory an inspection subsequent to accomplishment of repair SB A300-53-0282 or A300[-53]-0291 or A300-57-6069 in the affected area. The SB A300-53-0381, A300-53-0383 and A300-57-6102 define the various configurations for the mandatory [repetitive] inspections to be conducted in order to control or correct the development of cracks [in the center wing box at FR47], which could affect the structural integrity of the aircraft.

The inspections include x-ray, high frequency eddy current, visual, and ultrasonic inspections. Corrective actions include contacting Airbus if any cracking is found, repairing if any cracking is found, and doing other specified actions. The other specified actions include contacting Airbus for oversizing fastener holes, oversizing fastener holes, installing new fasteners, and installing new plugs.

Actions and Compliance

(f) Unless already done, do the following actions.

(1) Except as provided by paragraphs (f)(1)(i), (f)(1)(ii), (f)(1)(iii), (f)(1)(iv), and (f)(1)(v) of this AD, at the threshold defined in paragraph 1.E. “Compliance” of the applicable service bulletin listed in Table 1 of this AD and according to the Accomplishment Instructions of the applicable service bulletin, perform all applicable inspections and, before further flight, perform all applicable other specified actions, of FR47 forward fitting vertical splice (including crack stop hole), crack stop hole (depending on cracks length and position), center wing box lower panel, and reinforced parts (internal angle, lower external splice and external fitting).

Table 1.—Airbus Service Bulletins
Service Bulletin | Date
A300-53-0381 | January 15, 2007.
A300-53-0383 | January 11, 2007.
A300-57-6102 | January 12, 2007.

(i) Where the tables in 1.E. Compliance of the service bulletins listed in Table 1 of this AD contain compliance times in both flight cycles and flight hours, this AD requires that the corresponding actions be done at the earlier of the flight cycle and flight hour compliance times.

(ii) Where any table in 1.E. Compliance of the service bulletins listed in Table 1 of this AD specifies measurements for LA and LB and the table does not list the unit of measurements, the unit of measurement is millimeters (mm).

(iii) Where any table in 1.E. Compliance of the service bulletins listed in Table 1 of this AD specifies exact measurements in the rows of the table for LA, use the ranges specified in Table 2 of this AD.

Table 2.—Ranges for LA
Where row of the table specifies— | Use—
LA = 0 | LA = 0
LA = 10 | 0 <LA ≤10mm
LA = 15 | 10mm <LA ≤15mm
LA = 20 | 15mm <LA ≤20mm

(iv) Where in 1.E. Compliance of the service bulletins listed in Table 1 of this AD the service bulletins specify a compliance time after receipt of the service bulletin, this AD requires compliance within the specified compliance time after the effective date of this AD.

(v) Where any table in 1.E. Compliance of the service bulletins listed in Table 1 of this AD specifies measurements of LA >40mm, this AD requires that the corresponding action be done if LA ≥ to 40mm.

(2) If any crack is detected during any inspection required by paragraph (f)(1) of this AD, before further flight, contact Airbus and repair.

(3) Repeat the actions specified in paragraph (f)(1) of this AD at the intervals defined in paragraph 1.E. “Compliance” of the applicable service bulletin listed in Table 1 of this AD and according to the Accomplishment Instructions of the applicable service bulletin, except as provided by paragraphs (f)(1)(i), (f)(1)(ii), (f)(1)(iii), and (f)(1)(v) of this AD.

(4) Within 30 days after doing the inspection required by paragraph (f)(1) of this AD or within 30 days after the effective date of this AD, whichever occurs later, report the first inspection results, whatever they may be, to Airbus as specified in the applicable service bulletin listed in Table 1 of this AD.

FAA AD Differences

Note: This AD differs from the MCAI and/or service information as follows: The MCAI and service bulletin did not provide adequate descriptions for certain compliance times. We have clarified the compliance times in paragraphs (f)(1)(i), (f)(1)(ii), (f)(1)(iii), (f)(1)(iv), and (f)(1)(v) of this AD.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to ATTN: Tom Stafford, Aerospace Engineer, International Branch, ANM-116, Transport Airplane Directorate, FAA, 1601 Lind Avenue, SW., Renton, Washington 98057-3356; telephone (425) 227-1622; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI EASA Airworthiness Directive 2007-0150, dated May 22, 2007 [corrected May 23, 2007], and the Airbus Service Bulletins listed in Table 1 of this AD, for related information.

Issued in Renton, Washington, on February 21, 2008.
Ali Bahrami,
Manager, Transport Airplane Directorate, Aircraft Certification Service.

[FR Doc. E8-3823 Filed 2-28-08; 8:45 am]

BILLING CODE 4910-13-P